DEPARTMENT OF TRANSPORTATION

Federal Aviation Administration

14 CFR Part 39

[Docket No. 2001-NM-185-AD; Amendment 39-12656; AD 2002-03-15]

RIN 2120-AA64

Airworthiness Directives; Dornier Model 328-100 and -300 Series Airplanes

AGENCY: Federal Aviation Administration, DOT.

ACTION: Final rule.

SUMMARY: This amendment adopts a new airworthiness directive (AD), applicable to certain Dornier Model 328-100 and -300 series airplanes, that requires testing of the left- and right-hand potentiometer levers of the aileron flight control system, and follow-on or corrective action, as applicable. This amendment is necessary to prevent detachment of an aileron potentiometer lever, which could result in jamming of the elevator and/or aileron flight control systems and consequent reduced controllability of the airplane. This action is intended to address the identified unsafe condition.

DATES: Effective March 27, 2002.

The incorporation by reference of certain publications listed in the regulations is approved by the Director of the Federal Register as of March 27, 2002.

ADDRESSES: The service information referenced in this AD may be obtained from Fairchild Dornier, Dornier Luftfahrt GmbH, P.O. Box 1103, D-82230 Wessling, Germany. This information may be examined at the FAA, Transport Airplane Directorate, 1601 Lind Avenue, SW., Renton, Washington; or at the Office of the Federal Register, 800 North Capitol Street, NW., suite 700, Washington, DC.

FOR FURTHER INFORMATION CONTACT: Tom Groves, Aerospace Engineer, International Branch, ANM-116, FAA, Transport Airplane Directorate, 1601 Lind Avenue, SW., Renton, Washington 98055-4056; telephone (425) 227-1503; fax (425) 227-1149.

SUPPLEMENTARY INFORMATION: A proposal to amend part 39 of the Federal Aviation Regulations (14 CFR part 39) to include an airworthiness directive (AD) that is applicable to certain Dornier Model 328-100 and -300 series airplanes was published in the Federal Register on September 25, 2001 (66 FR 48989). That action proposed to require testing of the left- and right-hand potentiometer levers of the aileron flight control system, and follow-on or corrective action, as applicable.

Public Comments

Interested persons have been afforded an opportunity to participate in the making of this amendment. Due consideration has been given to the single comment received.

Request To Revise Paragraph (c)(2) of the Proposed Rule

One commenter, the airplane manufacturer, states that a new potentiometer lever, having part number (P/N) 001A271A2062 002, has been developed and approved. The new lever prevents detachment of an aileron potentiometer lever, which could result in jamming of the elevator and/or aileron flight control systems. The FAA infers that the commenter is requesting that the FAA add the new lever P/N to paragraph (c) of the proposed rule.

The FAA agrees. We have revised paragraph (c)(1) and (c)(2) of the AD to permit operators to comply with the requirements of that paragraph by replacing the potentiometer lever with a new lever, P/N 001A271A2062 002, or with P/N 001A271A2062 000, which was the “new” lever P/N at the time the NPRM was issued. Although the lever P/Ns were not referred to in the NPRM, we have added them to the final rule to help clarify and differentiate the description of a “new” potentiometer lever. Paragraph (c)(2) of the final rule has also been revised to specify that operators may replace the potentiometer levers by using either the method provided by subparagraph (c)(2)(i) or (c)(2)(ii) of the final rule.

Conclusion

After careful review of the available data, including the comment noted above, the FAA has determined that air safety and the public interest require the adoption of the rule with the changes described previously. The FAA has determined that these changes will neither increase the economic burden on any operator nor increase the scope of the AD.

Cost Impact

The FAA estimates that 89 Dornier Model 328-100 and -300 series airplanes of U.S. registry will be affected by this AD, that it will take approximately 2 work hours per airplane to accomplish the required test, and that the average labor rate is $60 per work hour. Based on these figures, the cost impact of the AD on U.S. operators is estimated to be $10,680, or $120 per airplane, per test cycle.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-03-15 Dornier Luftfahrt GMBH: Amendment 39-12656. Docket 2001-NM-185-AD.

Applicability: Model 328-100 airplanes, serial numbers 3005 through 3119 inclusive, on which Dornier Service Bulletin SB-328-27-319, dated June 26, 2000, or Revision 1, dated September 27, 2000, has been accomplished; and Model 328-300 series airplanes, serial numbers 3105 through 3184 inclusive; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent detachment of the aileron potentiometer lever, which could result in jamming of the elevator and/or aileron flight control systems and reduced controllability of the airplane, accomplish the following:

Testing and Corrective Action

(a) Within 30 days after the effective date of this AD, test the left- and right-hand potentiometer levers of the aileron flight control system to determine whether, with the bolt in position and the clamping force across the splines relaxed, the levers can be pulled off the splined shaft, in accordance with the Dornier service bulletin listed in paragraph (a)(1) or (a)(2) of this AD, as applicable.

(1) For Dornier Model 328-100 series airplanes: Accomplishment Instructions, “Aileron System,” of Dornier Service Bulletin SB-328-27-359, dated March 29, 2001.

(2) For Dornier Model 328-300 series airplanes: Accomplishment Instructions, “Aileron System,” of Dornier Service Bulletin SB-328J-27-064, Revision 1, dated April 12, 2001.

(b) If, as a result of the test required by paragraph (a) of this AD, any lever cannot be removed, before further flight, retighten the nut and bolt and replace the split pin, in accordance with the Dornier service bulletin listed in paragraph (a)(1) or (a)(2) of this AD, as applicable.

(c) If, as a result of the test required by paragraph (a) of this AD, any lever can be detached from the splined shaft, perform the actions specified in paragraph (c)(1) or (c)(2) of this AD, as applicable.

(1) If a potentiometer lever having either part number (P/N) 001A271A2062 000 or 001A271A2062 002 is available from stock or from the airplane manufacturer, before further flight, replace the defective lever with a new lever having either P/N 001A271A2062 000 or 001A271A2062 002; in accordance with the Dornier service bulletin listed in paragraph (a)(1) or (a)(2) of this AD, as applicable. After the installation of the new lever and before further flight, test the new lever as required in paragraph (a) of this AD.

(2) If a potentiometer lever is not available from stock or from the airplane manufacturer, before further flight, reassemble the existing lever with loctite, in accordance with the Dornier service bulletin listed in paragraph (a)(1) or (a)(2) of this AD, as applicable and, within 4,000 flight hours or 24 months after the effective date of this AD, whichever comes first, replace the lever with a new lever having P/N 001A271A2062 000 or 001A271A2062 002; in accordance with a method specified in paragraph (c)(2)(i) or (c)(2)(ii) of this AD.

(i) In accordance with a method approved by either the Manager, International Branch, ANM-116, FAA; or the Luftfahrt-Bundesamt (LBA) (or its delegated agent).

(ii) In accordance with the Dornier service bulletin specified in paragraph (a)(1) or (a)(2) of this AD, as applicable.

Alternative Methods of Compliance

(d) An alternative method of compliance or adjustment of the compliance time that provides an acceptable level of safety may be used if approved by the Manager, International Branch, ANM-116. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(e) Special flight permits may be issued in accordance with sections 21.197 and 21.199 of the Federal Aviation Regulations (14 CFR 21.197 and 21.199) to operate the airplane to a location where the requirements of this AD can be accomplished.

Incorporation by Reference

(f) Except as provided by paragraph (c)(2)(i) of this AD, the actions shall be done in accordance with Dornier Service Bulletin SB-328-27-359, dated March 29, 2001; or Dornier Service Bulletin SB-328J-27-064, Revision 1, dated April 12, 2001; as applicable. This incorporation by reference was approved by the Director of the Federal Register in accordance with 5 U.S.C. 552(a) and 1 CFR part 51. Copies may be obtained from Fairchild Dornier, Dornier Luftfahrt GmbH, P.O. Box 1103, D-82230 Wessling, Germany. Copies may be inspected at the FAA, Transport Airplane Directorate, 1601 Lind Avenue, SW., Renton, Washington; or at the Office of the Federal Register, 800 North Capitol Street, NW., suite 700, Washington, DC.

Note 3: The subject of this AD is addressed in German airworthiness directive 2001-167/2, dated June 28, 2001, and German airworthiness directive 2001-168, dated June 14, 2001.

Effective Date

(g) This amendment becomes effective on March 27, 2002.

Issued in Renton, Washington, on February 8, 2002.
Ali Bahrami,
Acting Manager, Transport Airplane Directorate, Aircraft Certification Service.

[FR Doc. 02-3612 Filed 2-19-02; 8:45 am]

BILLING CODE 4910-13-P